DEPARTMENT OF THE INTERIOR

Bureau of Land Management

[NV-912-05-1990-PO-241A-006F]

Sierra Front-Northwestern Great Basin Resource Advisory Council; Notice of Meeting Locations and Times

AGENCY: Bureau of Land Management, Interior.

ACTION: Notice of meeting locations and times for the Sierra Front-Northwestern Great Basin Resource Advisory Council (Nevada).

SUMMARY: In accordance with the Federal Land Policy and Management Act and the Federal Advisory Committee Act of 1972 (FACA), two meetings of the U.S. Department of the Interior, Bureau of Land Management (BLM) Sierra Front-Northwestern Great Basin Resource Advisory Council (RAC), Nevada, will be held as indicated below. Topics for discussion at the meetings will include, but are not limited to: Manager's reports of current field office activities; RAC subcommittee reports on guidelines for wild horse management; Carson City Field Office Energy RMP Amendment/DEIS; Churchill County RMP Amendment/EA; Pine Nut Mountain RMP Amendment/DEIS; Granite-Fox Power Plant Project; Coer-Rochester Mine Plan/DEIS; BLM-Nevada Draft OHV Route Inventory & Designation Strategy; Winnemucca RMP/DEIS; Winnemucca Field Office Wildfire Support Group; Sierra Front Recreation Coalition Map; and additional topics the council may raise during the meetings.

DATES & TIMES: The RAC will meet on Wednesday-Thursday, April 27-28, 2005, at the BLM-Winnemucca Field Office, 5100 East Winnemucca Blvd., Winnemucca, Nevada; and on Thursday-Friday, July 28-29, 2005, at the BLM-Carson City Field Office, 5665 Morgan Mill Road, Carson City, Nevada. All meetings are open to the public. A general public comment period, where the public may submit oral or written comments to the RAC, will be held on the first day of each two-day meeting at 4 p.m. (April 27 & July 28).

A final detailed agenda, with any additions/corrections to agenda topics and the starting and ending times of each meeting, will be determined/posted at least two weeks before each two-day meeting on the BLM-Nevada State Office Web site at http://www.nv.blm.gov/rac; hard copies of the agendas can also be mailed or sent via FAX. Individuals who need special assistance such as sign language interpretation or other reasonable accommodations, or who wish a hard copy of the agenda, should contact Mark Struble, Carson City Field Office, 5665 Morgan Mill Road, Carson City, NV 89701, telephone (775) 885-6107, no later than two weeks before each two-day meeting.

FOR FURTHER INFORMATION CONTACT: Mark Struble, Public Affairs Officer, BLM Carson City Field Office, 5665 Morgan Mill Road, Carson City, NV 89701. Telephone: (775) 885-6107. E-mail: mstruble@nv.blm.gov

Dated: February 22, 2005.
Don Hicks,
Field Office Manager, BLM-Carson City Field Office.

[FR Doc. 05-3888 Filed 2-28-05; 8:45 am]

BILLING CODE 4310-HC-P